DEPARTMENT OF THE INTERIOR

National Park Service

[NPS-WASO-NRNHL-DTS#-31168; PPWOCRADI0, PCU00RP14.R50000]

National Register of Historic Places; Notification of Pending Nominations and Related Actions

AGENCY: National Park Service, Interior.

ACTION: Notice.

SUMMARY: The National Park Service is soliciting electronic comments on the significance of properties nominated before November 7, 2020, for listing or related actions in the National Register of Historic Places.

DATES: Comments should be submitted electronically by December 3, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION:

The properties listed in this notice are being considered for listing or related actions in the National Register of Historic Places. Nominations for their consideration were received by the National Park Service before November 7, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

DISTRICT OF COLUMBIA

District of Columbia

All Souls Church, Unitarian, 1500 Harvard St. NW, Washington, SG100005905

GEORGIA

Fulton County

F.H. Ross & Company Laundry Warehouse, 833 Memorial Dr., Atlanta, SG100005906

KENTUCKY

Madison County

Berea Downtown Commercial and Residential Historic District, Roughly bounded by Chestnut St. (300-400), North Broadway St. (100-200), Adams St. (200), Parkway Ave. (100), Pasco St. (100), and Bond St., Berea, SG100005909

MARYLAND

Frederick County

Brandenburg, Henry, House, 9057 Myersville Rd., Myersville vicinity, SG100005908

NEW YORK

Broome County

Chenango Canal Prism, Towpath and Lock 106 (Historic and Engineering Resources of the Chenango Canal MPS) Cty. Rd. 79 and Cty. Rd. 32 (Stillwater Road) Chenango Forks, MP100005922

Chenango County

Chenango Canal Prism, Towpath and Lock 106 (Historic and Engineering Resources of the Chenango Canal MPS) Cty. Rd. 79 and Cty. Rd. 32 (Stillwater Road) Chenango Forks vicinity, MP100005922

Erie County

Lafayette Flats, 115-135 Lafayette Ave., Buffalo, SG100005913

Our Mother of Good Counsel Roman Catholic Church Complex, 3688 South Park Ave. and 15 Oakwood Ave., Blasdell, SG100005914

Niagara Lithograph Company, 1050 Niagara St., Buffalo, SG100005920

Onondaga County

Foster-Hubbard House, 678 West Onondaga St., Syracuse, SG100005915

Westchester County

Zion Episcopal Church, 55 Cedar St., Dobbs Ferry, SG100005921

TEXAS

Brewster County

Gage Hotel, 102 NW 1st St. (US 90 West) Marathon, SG100005910

VERMONT

Addison County

Salisbury Village Blacksmith Shop, 925 Maple St., Salisbury, SG100005912

VIRGINIA

Mecklenburg County

Chase City Warehouse and Commercial Historic District, North Main, East 5th, West 4th, East 2nd, and East Sycamore Sts., Chase City, SG100005923

WISCONSIN

Sheboygan County

Siebken's Resort, 284 South Lake St., 285 Victorian Village Dr., and 253 South east St., Elkhart Lake, SG100005907

A request for removal has been made for the following resources:

MAINE

Androscoggin County

Cushman Tavern, 430 Ridge Rd. and 921 Middle St., Lisbon vicinity, OT79000125

Cumberland County

Friends School, 9 Leach Hill Rd., Casco, OT96000650

Penobscot County

Kingman, Romanzo, House, East side of ME170 between Cross St. and Station Ln., Kingman, OT82000775

Piscataquis County

Straw House, 11 Golda Ct., Guilford, OT82000776

Additional documentation has been received for the following resources:

TENNESSEE

Loudon County

Hackney Chapel AME Zion Church (Additional Documentation) (Rural African-American Churches in Tennessee MPS) Hackney Chapel Rd., Lenoir City vicinity, AD00000729

VIRGINIA

Bedford County

Bellevue Rural Historic District (Additional Documentation) Bellevue Rd., Forest, AD05001345

Authority: Section 60.13 of 36 CFR part 60.

Dated: November 10, 2020.
Sherry A. Frear,
Chief, National Register of Historic Places/National Historic Landmarks Program.

[FR Doc. 2020-25424 Filed 11-17-20; 8:45 am]

BILLING CODE 4312-52-P